DEPARTMENT OF THE TREASURY

Internal Revenue Service

26 CFR Parts 48 and 602

[TD 9346]

RIN 1545-BC08

Entry of Taxable Fuel; Correction

AGENCY: Internal Revenue Service (IRS), Treasury.

ACTION: Correction to final regulations.

SUMMARY: This document contains a correction to final regulations (TD 9346) that were published in the Federal Register on Friday, July 27, 2007 (72 FR 41222) relating to the tax on the entry of taxable fuel into the United States.

DATES: The correction is effective August 23, 2007.

FOR FURTHER INFORMATION CONTACT: Celia Gabrysh at (202) 622-3130 (not a toll-free number).

SUPPLEMENTARY INFORMATION:

Background

The final regulations that are the subject of this correction are under section 4081 of the Internal Revenue Code.

Need for Correction

As published, final regulations (TD 9346) contain an error that may prove to be misleading and is in need of clarification.

Correction of Publication

Accordingly, the publication of the final regulations (TD 9346), which was the subject of FR Doc. E7-14491, is corrected as follows:

On page 41222, column 3, in the preamble, under the paragraph heading “Background”, the last line of the last paragraph of the column, the language “nonsubstantive, clerical changes need to” is corrected to read “nonsubstantive, clerical changes needed to”.

LaNita Van Dyke,
Chief, Publications and Regulations Branch, Legal Processing Division, Associate Chief Counsel (Procedure and Administration).

[FR Doc. E7-16626 Filed 8-22-07; 8:45 am]

BILLING CODE 4830-01-P